SECURITIES AND EXCHANGE COMMISSION

[Rule 17a-12; SEC File No. 270-442; OMB Control No. 3235-0498]

Submission for OMB Review; Comment Request

Notice is hereby given that pursuant to the Paperwork Reduction Act of 1995 (44 U.S.C. 3501 et seq.), the Securities and Exchange Commission (“Commission”) has submitted to the Office of Management and Budget a request for extension of the previously approved collection of information discussed below.

• Rule 17a-12, Reporting Requirements for OTC Derivatives Dealers

Rule 17a-12 under the Securities Exchange Act of 1934 requires OTC derivatives dealers to file quarterly Financial and Operational Combined Uniformed Single Reports (FOCUS) on Form X-17A-5IIB,¹ the basic document for reporting the financial and operational condition of OTC derivatives dealers. Rule 17a-12 also requires that OTC derivatives dealers annually file audited financial statements. The reports required under Rule 17a-12 provide the Commission with information used to monitor the operations of OTC derivatives dealers and to enforce their compliance with the Commission's rules. These reports also enable the Commission to review the business activities of OTC derivatives dealers and to anticipate, where possible, how these dealers may be affected by significant economic events.

¹ Form X-17a-5 [17 C.F.R. 249.617].

The staff estimates that that the average amount of time necessary to prepare and file the information required by Rule 17a-12 is 180 hours per OTC derivatives dealer annually, where the OTC derivatives dealer spends an average of twenty hours preparing each of four quarterly reports, and an additional 100 hours on the annual audit. One entity is presently registered as an OTC derivatives dealer, however the staff estimates that between five and nine additional OTC derivatives dealers may become registered within the next three years. Thus the total burden is estimated to be 1,080 hours annually for six OTC derivatives dealers.²

² Or 1,800 hours annually for ten OTC derivatives dealers.

The staff believes that financial reporting specialists will prepare the FOCUS IIB Reports and supporting Schedules, compliance personnel may review the reports to assure compliance with applicable rules, and accountants will prepare the audited annual reports. The staff estimates that the hourly salary of a financial reporting specialist is $72.40 per hour,³ the hourly salary of a compliance manager is $82.50 per hour,⁴ and the hourly salary of a compliance manager is $51.60 per hour.⁵ Based upon these numbers, the total cost of compliance for six respondents is $65,950.00 per year.⁶

³ Per Securities Industry Association (SIA) Management and Professional Earnings, Table 011 (Financial Reporting Manager) + 35% overhead (based on end-of-year 1998 figures).

⁴ SIA Management and Professional Earnings, Table 051 (Compliance Manager) + 35% overhead (based on end-of-year 1998 figures.)

⁵ SIA Management and Professional Earnings, Table 003 (Senior Accountant) + 35% overhead (based on end-of-year 1998 figures).

⁶ ((19 hours × $72.40 × 4 filings per year) + (1 hour × $82.50 per hour × 4 filings per year) + (100 hours × $51.60 × 1 filing per year) × six OTC derivatives dealers. The total cost for ten respondents would be $109,924.00 per year.

An agency may not conduct or sponsor, and a person is not required to respond to, a collection of information unless it displays a currently valid control number.

General comments regarding the estimated burden hours should be directed to the following persons: (i) Officer for the Securities and Exchange Commission, Office of Information and Regulatory Affairs, Office of Management and Budget, Room 3208, New Executive Office Building, Washington, DC 20503; and (ii) Michael E. Bartell, Associate Executive Director, Office of Information Technology, Securities and Exchange Commission, 450 Fifth Street, NW, Washington, DC 20549. Comments must be submitted to OMB within thirty days of this notice.

Dated: January 9, 2001.
Jonathan G. Katz,
Secretary.

[FR Doc. 01-1748 Filed 1-19-01; 8:45 am]

BILLING CODE 8010-01-M